DEPARTMENT OF DEFENSE

Department of the Navy

Notice of Intent To Prepare an Environmental Impact Statement to Transition Six FA-18C Strike Fighter Squadrons to FA-18E Strike Fighter Squadrons at Naval Air Station Oceana, Virginia and To Announce Public Scoping Meetings

AGENCY: Department of the Navy, DoD.

ACTION: Notice.

SUMMARY: Pursuant to section 102(2)(c) of the National Environmental Policy Act of 1969, as implemented by the Council on Environmental Quality regulations (40 Code of Federal Regulations parts 1500-1508), the Department of the Navy (DoN) announces its intent to prepare an Environmental Impact Statement (EIS) to evaluate the potential environmental consequences of transitioning six FA-18C (Hornet) strike fighter squadrons to FA-18E (Super Hornet) strike fighter squadrons at Naval Air Station (NAS) Oceana, Virginia. The EIS will also include a comprehensive analysis of NAS Oceana operations, addressing overall air operations at the main base and Field Carrier Landing Practice (FCLP) operations at Naval Auxiliary Landing Field (NALF) Fentress.

DATES AND ADDRESSES: Two public scoping meetings will be held from 5:00 p.m. to 8:00 p.m. on:

1. Tuesday, September 29, 2015, at the Columbian Club, 1236 Prosperity Road, Virginia Beach, VA 23451; and

2. Wednesday, 30 September, 2015, at Centerville Baptist Church, 908 Centerville Turnpike, Chesapeake, VA 23322.

The two public scoping meetings will be informal, using an open house format to obtain verbal or written comments on the scope of the EIS and to identify specific environmental concerns or topics for consideration. Each information station will be staffed by DoN representatives. Additional information concerning each public scoping meeting is available on the EIS Web page located at: http://www.oceanastrikefightereis.com.

FOR FURTHER INFORMATION CONTACT: NAS Oceana EIS Project Manager (Code EV21/TW); Naval Facilities Engineering Command (NAVFAC) Atlantic, 6506 Hampton Boulevard, Norfolk, Virginia 23508.

SUPPLEMENTARY INFORMATION: Since 2002, FA-18C Hornet aircraft have been used in support of world-wide operations at higher rates than originally projected. The result of this higher use has been greater airframe fatigue, which in turn is rapidly accelerating the date at which the Hornet aircraft will reach the end of their service life and need to be retired. While the DoN plan had been to replace Hornet aircraft with the F-35C Joint Strike Fighter (JSF) aircraft, the entry of the F-35C into the U.S. Navy inventory has been delayed and it will not be available on the East Coast before the current inventory of Hornet aircraft based at NAS Oceana will be retired.

The combination of the accelerated retirement of the Hornet aircraft and delays in the availability of replacement F-35C aircraft warrants an interim measure to ensure the requisite number of strike fighter aircraft remain at NAS Oceana to meet operational and training needs. Therefore, the DoN proposes to transition the six NAS Oceana squadrons that still operate the FA-18C Hornet, and the NAS Oceana-based Fleet Replacement Squadron (FRS), to the FA-18E Super Hornet aircraft. The proposed transition would involve a one-for-one aircraft replacement, occur at NAS Oceana, and begin no earlier than 2018. The proposed action will provide newer, more capable, and more reliable aircraft to the NAS Oceana-based strike fighter community using existing assets until the replacement F-35C aircraft are available for East Coast operations. No other aircraft carrier (CVN)-capable strike fighter aircraft exist to cover the gap until the introduction of the F-35C.

Since Super Hornet flight training is nearly identical to Hornet flight training, the type and quantity of flight training operations at NAS Oceana, NALF Fentress, and the local operating areas are not expected to be affected by the proposed transition and the subsequent retirement of the Hornet. Other than minor modifications to aircraft auxiliary power utilities in hangars, and installation of Super Hornet-compatible electrical distribution on the flight line, no major construction or facility modifications are planned.

Recognizing that noise will be an important environmental concern associated with the transition, the EIS will include a comprehensive analysis of NAS Oceana air operations, including noise impacts, at the main base and FCLP operations at NALF Fentress. In addition, the DoN will use the EIS scoping period to conduct a thorough review of existing flight procedures to determine if any reasonable adjustments can be made to mitigate potential noise impacts of the proposed action. Following scoping, the DoN will also consider input from the public to help identify reasonable noise mitigation alternatives not already implemented to carry forward for analysis in the Draft EIS.

Federal, state, and local agencies, the public and interested persons are encouraged to provide comments to the DoN during the public scoping period to identify environmental concerns that the commenter believes should be addressed in the EIS. To be most effective, scoping comments should clearly describe the specific issues(s) or topic(s) that the EIS should address. Mailed comments must be postmarked by (30 Days).

In addition to the proposed action, the EIS will address the No Action Alternative. Under the No Action Alternative, the DoN would not transition six NAS Oceana Hornet squadrons and the NAS Oceana based FRS from Hornet aircraft to Super Hornet aircraft. The shortage of Hornet airframes that would result under this alternative would have an immediate and growing impact on the operational readiness of the strike fighter squadrons at NAS Oceana.

The DoN will analyze the potential environmental effects of transitioning the remaining Hornet aircraft to the Super Hornet aircraft. Resource areas to be addressed in the EIS will include, but not be limited to: noise, air quality, land use, socioeconomics, natural resources, biological resources, cultural resources, and safety and environmental hazards. The analysis will evaluate direct and indirect impacts, and will account for cumulative impacts from other relevant activities near the installation. Relevant and reasonable measures that could avoid or mitigate environmental effects will also be analyzed. Additionally, the DoN will undertake any consultations required by law or regulation.

The DoN will not release the names, street addresses, email addresses and screen names, telephone numbers, or other personally identifiable information of individuals who provide comments during scoping unless required by law. However, the DoN may release the city, state, and 5-digit zip code of individuals who provide comments. Each commenter making oral comments at the public scoping meetings will be asked by the stenographer if he/she otherwise elects to authorize the release of their personally identifiable information prior to providing their comments. Commenters submitting written comments, either using comment forms or via the project Web site, may elect to authorize release of personally identifiable information by checking a “release” box on the comment form.

To be included on the DoN's mailing list for the EIS (or to receive a copy of the Draft EIS, when released), electronic requests can be made on the project Web site at www.oceanastrikefightereis.com. Requests via the U.S. Postal Service should be submitted to: NAS Oceana EIS Project Manager (Code EV21/TW); Naval Facilities Engineering Command (NAVFAC) Atlantic, 6506 Hampton Boulevard, Norfolk, Virginia 23508. The same policy for release of personally identifiable information as identified above for scoping comments will be maintained by DoN for individuals requesting to be included on the EIS mailing list.

Dated: August 27, 2015.
N. A. Hagerty-Ford,
Commander, Judge Advocate General's Corps, U.S. Navy, Federal Register Liaison Officer.

[FR Doc. 2015-22773 Filed 9-9-15; 8:45 am]

BILLING CODE 3810-FF-P